DEPARTMENT OF ENERGY

10 CFR Part 900

RIN 1901-AB18

Coordination of Federal Authorizations for Electric Transmission Facilities

AGENCY: Office of Electricity Delivery and Energy Reliability, Department of Energy.

ACTION: Notice of extension of public comment period.

SUMMARY: This document announces that the period for submitting comments on the proposed rule for the coordination of Federal Authorizations for Electric Transmission Facilities has been extended until February 27, 2012.

DATES: DOE will accept comments, data, and information regarding the proposed coordination rule published December 13, 2011 (76 FR 77432) until February 27, 2012.

ADDRESSES: Any comments submitted must be identified as comments on the “Proposed 216(h) Regulations”. Comments may be submitted using any of the following methods:

• Federal eRulemaking Portal: http://www.regulations.gov. Follow the instructions for submitting comments.

• Email: Brian.Mills@hq.doe.gov. Include “Proposed 216(h) Regulations” in the subject line of the message.

• Mail: Brian Mills, Office of Electricity Delivery and Energy Reliability (OE-20), U.S. Department of Energy, 1000 Independence Avenue SW., Washington, DC 20585.

FOR FURTHER INFORMATION CONTACT: Brian Mills, Office of Electricity Delivery and Energy Reliability (OE-20), U.S. Department of Energy, 1000 Independence Avenue SW., Washington, DC 20585, Phone (202) 586-8267, email Brian.Mills@hq.doe.gov, or Lot Cooke, Attorney-Advisor, U.S. Department of Energy, Office of the General Counsel, GC-76, 1000 Independence Avenue SW., Washington, DC 20585, Phone (202) 586-0503, email Lot.Cooke@hq.doe.gov.

SUPPLEMENTARY INFORMATION: On December 13, 2011, DOE published a proposed rule in the Federal Register (76 FR 77432) to amend its regulations for the timely coordination of Federal authorizations for proposed interstate electric transmission facilities pursuant to section 216(h) of the Federal Power Act (FPA). The proposed rule provided for the submission of comments by January 27, 2012. A commenter noted the significant interest of its members in the rulemaking and requested an extension of the comment period given the holidays and the need for its members to complete projects and reports for calendar year 2011.

DOE has determined that an extension of the public comment period is appropriate based on the foregoing reasons and is hereby extending the comment period. DOE will consider any comments received by February 27, 2012.

Issued in Washington, DC, on January 20, 2012.
Patricia A. Hoffman,
Assistant Secretary, Office of Electricity Delivery and Energy Reliability.

[FR Doc. 2012-1662 Filed 1-25-12; 8:45 am]

BILLING CODE 6450-01-P